ENVIRONMENTAL PROTECTION AGENCY

40 CFR Part 52

[EPA-R04-OAR-2018-0819; FR-9995-57-Region 4]

Air Plan Approval; Georgia; Revisions to Sulfur Dioxide Ambient Air Quality Standards

AGENCY: Environmental Protection Agency (EPA).

ACTION: Proposed rule.

SUMMARY: On July 31, 2018, the State of Georgia, through the Georgia Environmental Protection Division (EPD), provided a revision to the Georgia State Implementation Plan (SIP). The Environmental Protection Agency (EPA) is proposing to approve into the SIP a modification to Georgia's Ambient Air Quality Standards regulation. Specifically, the July 31, 2018, SIP revision updates Georgia's air quality standards for sulfur dioxide (SO2) to be consistent with the National Ambient Air Quality Standard (NAAQS). EPA is proposing to approve the July 31, 2018, SIP revision because the changes are consistent with the Clean Air Act (CAA or Act).

DATES: Comments must be received on or before August 1, 2019.

ADDRESSES: Submit your comments, identified by Docket ID No. EPA-R04-OAR-2018-0819 at www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, the full EPA public comment policy, information about CBI or multimedia submissions, and general guidance on making effective comments, please visit www2.epa.gov/dockets/commenting-epa-dockets.

FOR FURTHER INFORMATION CONTACT: Tiereny Bell, Air Regulatory Management Section, Air Planning and Implementation Branch, Air and Radiation Division, U.S. Environmental Protection Agency, Region 4, 61 Forsyth Street SW, Atlanta, Georgia 30303-8960. The telephone number is (404) 562-9088. Ms. Bell can also be reached via electronic mail at bell.tiereny@epa.gov.

SUPPLEMENTARY INFORMATION:

I. Background

In this rulemaking, EPA is proposing to approve changes into the Georgia SIP dated July 31, 2018.¹ This rulemaking proposes to approve changes that revise Subparagraph (b), “Sulfur Dioxide,” of Georgia Rule 391-3-1-.02(4), “Ambient Air Standards” by updating Georgia's air quality standard to be consistent with the NAAQS. Georgia's July 31, 2018, SIP revision can be found in the docket for this rulemaking at www.regulations.gov and is further summarized below.

¹ The Agency received the SIP revision on August 2, 2018. EPA received several SIP revisions from Georgia through the July 31, 2018, letter. EPA is considering action on the additional SIP revisions in actions separate from today's action.

II. EPA's Analysis of Georgia's SIP revision

The July 31, 2018, SIP submission revises the State's ambient air quality standards to reflect the historical and current NAAQS for SO2. Specifically, the changes update the former primary SO2 NAAQS for the 1971 annual and 24-hour ambient air quality standards to be consistent with the federal regulations.

On June 22, 2010, EPA promulgated a revised primary SO2 NAAQS. The revised SO2 NAAQS is an hourly standard of 75 parts per billion (ppb), based on a 3-year average of the annual 99th percentile of 1-hour daily maximum concentrations. The June 22, 2010 action that promulgated the revised primary SO2 NAAQS also addressed revocation of the 1971 24-hour and annual primary SO2 NAAQS. See 75 FR 35520. Pursuant to the June 22, 2010 action and 40 CFR 50.4 the 1971 primary SO2 annual and 24-hour NAAQS will continue to apply in an area until one year after the effective date of the designation of that area for the 2010 SO2 NAAQS. See 42 U.S.C. 7407; 40 CFR 50.17.² Accordingly, in the July 31, 2018, SIP submittal, Georgia revised Rule 391-3-1-.02(4)(b) to provide clarity that the 1971 standard continues to apply in Georgia.³

² See 75 FR at 35581. No areas in Georgia were designated as nonattainment for the 1971 standards at the time of promulgation of the 2010 1-hour SO2 annual and 24-hour SO2 standards. See id.

³ See 40 CFR 81.311 for designated areas in the State of Georgia for the 2010 SO2 standard. The EPA notes that Floyd County is the only county in Georgia that has not yet been designated for the 2010 SO2 standard, and thus is still subject to the 1971 annual and 24-hour SO2 standards. See 81 FR 45039 (July 12, 2016); 83 FR 1098 (January 9, 2018).

EPA notes that the State's revision to Rule 391-3-1-.02(4)(b) in the July 31, 2018, submittal replaces the State's previous version of Rule 391-3-1-.02(4)(b). If EPA finalizes approval of the revision, the State's previous regulation containing the 1971 standard (expressed in micrograms per cubic meter (μg/m³)) will be replaced by the version state effective on July 23, 2018 (expressed in parts per million (ppm)). EPA notes that the two expressions of the NAAQS are equivalent and thus there is no expected increase in emissions as a result of this change.⁴

⁴ See, e.g., 36 FR 8186 (April 30, 1971) (listing the sulfur dioxide NAAQS in both ppm and μg/m³).

EPA has reviewed the changes to Subparagraph (b), “Sulfur Dioxide”, of Rule 391-3-1-.02(4), “Ambient Air Standards” and has made the preliminary determination that the changes are consistent with the CAA. As mentioned above, EPA is proposing to approve these changes to the NAAQS into the Georgia SIP.

III. Incorporation by Reference

In this rule, EPA is proposing to include in a final EPA rule regulatory text that includes incorporation by reference. In accordance with requirements of 1 CFR 51.5, EPA is proposing to incorporate by reference changes to Georgia's Rule 391-3-1-.02(4), “Ambient Air Standards,” effective July 23, 2018, which revises the State ambient air quality standards to be consistent with the NAAQS. EPA has made, and will continue to make, these materials generally available through www.regulations.gov and at the EPA Region 4 office (please contact the person identified in the For Further Information Contact section of this preamble for more information).

IV. Proposed Action

EPA is proposing to approve the aforementioned changes to the Georgia SIP dated July 31, 2018, as described above. These changes are consistent with the CAA.

V. Statutory and Executive Order Reviews

Under the CAA, the Administrator is required to approve a SIP submission that complies with the provisions of the Act and applicable Federal regulations. See 42 U.S.C. 7410(k); 40 CFR 52.02(a). Thus, in reviewing SIP submissions, EPA's role is to approve state choices, provided that they meet the criteria of the CAA. This action merely proposes to approve state law as meeting Federal requirements and does not impose additional requirements beyond those imposed by state law. For that reason, this proposed action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

List of Subjects in 40 CFR Part 52

Environmental protection, Air pollution control, Incorporation by reference, Intergovernmental relations, Sulfur oxides.

Authority: 42 U.S.C. 7401 et seq.

Dated: May 28, 2019.
Mary S. Walker,
Regional Administrator, Region 4.

[FR Doc. 2019-14017 Filed 7-1-19; 8:45 am]

BILLING CODE 6560-50-P